DEPARTMENT OF HOMELAND SECURITY

Transportation Security Administration

Intent To Request Extension From OMB of One Current Public Collection of Information: TSA Reimbursable Screening Services Program (RSSP) Request

AGENCY: Transportation Security Administration, DHS.

ACTION: 60-Day notice.

SUMMARY: The Transportation Security Administration (TSA) invites public comment on one currently approved Information Collection Request (ICR), Office of Management and Budget (OMB) control number 1652-0073, that we will submit to OMB for an extension in compliance with the Paperwork Reduction Act (PRA). The ICR describes the nature of the information collection and its expected burden. The collection of information involves an application completed by public and private entities requesting participation in TSA's Reimbursable Screening Services Program (RSSP), currently a pilot program for up to eight locations to obtain TSA security screening services outside of an existing primary passenger airport terminal screening area where screening services are currently provided or would be eligible to be provided under TSA's annually appropriated passenger screening program.

DATES: Send your comments by August 22, 2022.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

The RSSP is authorized by the Consolidated Appropriations Act, 2019, Section 225, Division A (Pub. L. 116-6, Div. A) and amended in the Consolidated Appropriations Act, 2021, Section 223, Division F (Pub. L. 116-260, Div. F). Under this provision, TSA established a pilot for public or private entities regulated by TSA to request reimbursable screening services outside of an existing primary passenger terminal screening area where screening services are currently provided or eligible to be provided under TSA's annually appropriated passenger screening program. The authority available under this section is effective for fiscal years 2022 through 2023 and currently may be used at not more than eight locations for transportation security purposes. TSA collects this information to establish an application process for public and private entities regulated by TSA to request screening services under the RSSP. For purposes of RSSP, “screening services” means “the screening of passengers, flight crews, and their carry-on baggage and personal articles, and may include checked baggage screening if that type of screening is performed at an offsite location that is not part of a passenger terminal of a commercial airport.

Public or private entities regulated by TSA interested in participating in the RSSP may submit an application to the TSA Administrator requesting that TSA provide screening services outside of an existing primary passenger terminal screening area where screening services are currently provided or eligible to be provided under TSA's annually appropriated passenger screening program as a primary passenger terminal screening area. The request may only be submitted to TSA after consultation with the relevant local airport authority. The application is used to identify basic information to grant approval or denial.

The respondents to this information collection request are public or private entities regulated by TSA requesting the screening services at an airport that is a commercial service airport (as defined by 49 U.S.C. 47107(7)). TSA estimates the annual respondents for fiscal year 2022 to be no more than 15. The annual burden for the information collection related to providing screening services is estimated to be 492 hours.

Dated: June 14, 2022.
Christina A. Walsh,
TSA Paperwork Reduction Act Officer, Information Technology.

[FR Doc. 2022-13164 Filed 6-17-22; 8:45 am]

BILLING CODE 9110-05-P